DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On March 4, 2024, OFAC determined that the property and interests in property subject to U.S. jurisdiction of the following persons are blocked under the relevant sanctions authorities listed below.

Individuals

1. MNANGAGWA, Auxillia, Zimbabwe; DOB 21 Mar 1963; POB Mazowe, Zimbabwe; nationality Zimbabwe; Gender Female; Passport ED000003 (Zimbabwe) expires 27 Feb 2032; National ID No. 63545988X15 (Zimbabwe) (individual) [GLOMAG].

Designated pursuant to section 1(a)(ii)(B)(1) of Executive Order 13818 of December 20, 2017, “Blocking the Property of Persons Involved in Serious Human Rights Abuse or Corruption,” 82 FR 60839 (Dec. 26, 2017) (E.O. 13818 or the “Order”) for being a foreign person who is a current or former government official, or a person acting for or on behalf of such an official, who is responsible for or complicit in, or has directly or indirectly engaged in, corruption, including the misappropriation of state assets, the expropriation of private assets for personal gain, corruption related to government contracts or the extraction of natural resources, or bribery.

2. CHIMUKA, Obey, 25 Northolt Bluffhill, Harare, Zimbabwe; DOB 15 Jan 1975; POB Makoni, Zimbabwe; nationality Zimbabwe; Gender Male; Passport EN899508 (Zimbabwe) expires 15 Mar 2026; National ID No. 58158115R42 (Zimbabwe) (individual) [GLOMAG] (Linked To: FOSSIL CONTRACTING; Linked To: TAGWIREI, Kudakwashe Regimond).

Designated pursuant to section 1(a)(iii)(B) of E.O. 13818 of December 20, 2017, “Blocking the Property of Persons Involved in Serious Human Rights Abuse or Corruption,” 82 FR 60839 (Dec. 26, 2017) for being owned or controlled by, or having acted or purported to act for or on behalf of, directly or indirectly, Kudakwashe Regimond TAGWIREI, a person whose property and interests in property are blocked pursuant to the Order.

3. MPUNGA, Sandra, 4 Luna Road, Borrowdale, Harare, Zimbabwe; DOB 19 Nov 1971; POB Mutasa, Zimbabwe; nationality Zimbabwe; Gender Female; Passport DN056388 (Zimbabwe) expires 16 Oct 2022; National ID No. 63846615T50 (Zimbabwe) (individual) [GLOMAG] (Linked To: SAKUNDA HOLDINGS).

Designated pursuant to section 1(a)(iii)(B) of E.O. 13818 of December 20, 2017, “Blocking the Property of Persons Involved in Serious Human Rights Abuse or Corruption,” 82 FR 60839 (Dec. 26, 2017) for being owned or controlled by, or having acted or purported to act for or on behalf of, directly or indirectly, SAKUNDA HOLDINGS, a person whose property and interests in property are blocked pursuant to the Order.

4. TAGWIREI, Kudakwashe Regimond (a.k.a. TAGWIREI, Kuda), 4 Luna Road, Borrowdale, Harare, Zimbabwe; DOB 12 Feb 1969; POB Shurugwi, Midlands, Zimbabwe; nationality Zimbabwe; alt. nationality South Africa; Gender Male; Passport FN920256 (Zimbabwe) issued 02 Jul 2019 expires 01 Jul 2029; National ID No. 29135894Z66 (Zimbabwe) (individual) [GLOMAG].

Designated pursuant to section 1(a)(iii)(A)(1) of E.O. 13818 of December 20, 2017, “Blocking the Property of Persons Involved in Serious Human Rights Abuse or Corruption,” 82 FR 60839 (Dec. 26, 2017) for having materially assisted, sponsored or provided financial, material, or technological support for, or goods or services to or in support of corruption, including the misappropriation of state assets, the expropriation of private assets for personal gain, corruption related to government contracts or the extraction of natural resources, or bribery, and the transfer or the facilitation of the transfer of the proceeds of corruption.

5. MNANGAGWA, Emmerson Dambudzo (a.k.a. MNANGAGWA, Emmerson; a.k.a. “CROCODILE”), Munhumutapa Building, Corner of Second and Samora Machel Avenue, Harare, Zimbabwe; 1 Chancellor Avenue, Harare, Zimbabwe; DOB 15 Sep 1946; alt. DOB 15 Sep 1942; POB Zvishavane, Zimbabwe; nationality Zimbabwe; Gender Male; Passport AD005831 (Zimbabwe) issued 11 Jan 2018 expires 10 Jan 2028; alt. Passport AD006846 (Zimbabwe) issued 04 Feb 2020 expires 03 Feb 2025; National ID No. 63450183P67 (Zimbabwe); President of Zimbabwe (individual) [GLOMAG].

Designated pursuant to section 1(a)(ii)(B)(1) of E.O. 13818 of December 20, 2017, “Blocking the Property of Persons Involved in Serious Human Rights Abuse or Corruption,” 82 FR 60839 (Dec. 26, 2017) for being a foreign person who is a current or former government official, or a person acting for or on behalf of such an official, who is responsible for or complicit in, or has directly or indirectly engaged in, corruption, including the misappropriation of state assets, the expropriation of private assets for personal gain, corruption related to government contracts or the extraction of natural resources, or bribery.

Designated pursuant to section 1(a)(ii)(C)(1) of E.O. 13818 of December 20, 2017, “Blocking the Property of Persons Involved in Serious Human Rights Abuse or Corruption,” 82 FR 60839 (Dec. 26, 2017) for being a foreign person who is or has been a leader or official of an entity, including any government entity, that has engaged in, or whose members have engaged in, serious human rights abuse relating to the leader's or official's tenure.

6. CHIWENGA, Constantino Guveya (a.k.a. CHIWENGA, Constantine Gureya; a.k.a. CHIWENGA, Constantino; a.k.a. CHIWENGA, Constantino D.N.G.), Zimbabwe; DOB 25 Aug 1956; POB Zimbabwe; nationality Zimbabwe; Gender Male (individual) [GLOMAG].

Designated pursuant to section 1(a)(ii)(C)(1) of E.O. 13818 of December 20, 2017, “Blocking the Property of Persons Involved in Serious Human Rights Abuse or Corruption,” 82 FR 60839 (Dec. 26, 2017) for being a foreign person who is or has been a leader or official of an entity, including any government entity, that has engaged in, or whose members have engaged in, serious human rights abuse relating to the leader's or official's tenure.

7. MATANGA, Tandabantu Godwin (a.k.a. MATANGA, Godwin), Harare, Zimbabwe; DOB 05 Feb 1962; POB Chipinge, Zimbabwe; nationality Zimbabwe; Gender Male; National ID No. 75128777N13 (Zimbabwe) (individual) [GLOMAG].

Designated pursuant to section 1(a)(ii)(C)(1) of E.O. 13818 of December 20, 2017, “Blocking the Property of Persons Involved in Serious Human Rights Abuse or Corruption,” 82 FR 60839 (Dec. 26, 2017) for being a foreign person who is or has been a leader or official of an entity, including any government entity, that has engaged in, or whose members have engaged in, serious human rights abuse relating to the leader's or official's tenure.

8. MUCHINGURI, Oppah Charm Zvipange (a.k.a. MUCHINGURI KASHIRI, Oppah Chamu Zvipange; a.k.a. MUCHINGURI, Oppah; a.k.a. MUCHINGURI, Oppah Chamu Zvipange), 2 Tedder Road, Greendale, Harare 263, Zimbabwe; DOB 14 Dec 1958; POB Mutare, Zimbabwe; nationality Zimbabwe; Gender Female; National ID No. 63741411R50 (Zimbabwe) (individual) [GLOMAG].

Designated pursuant to section 1(a)(ii)(C)(1) of E.O. 13818 of December 20, 2017, “Blocking the Property of Persons Involved in Serious Human Rights Abuse or Corruption,” 82 FR 60839 (Dec. 26, 2017) for being a foreign person who is or has been a leader or official of an entity, including any government entity, that has engaged in, or whose members have engaged in, serious human rights abuse relating to the leader's or official's tenure.

9. MUTAMBA, Stephen, 192 Baines Ave., Harare, Harare, Zimbabwe; DOB 23 Oct 1961; POB Harare, Zimbabwe; nationality Zimbabwe; Gender Male; Passport FN460001 (Zimbabwe); National ID No. 58004069A83 (Zimbabwe) (individual) [GLOMAG].

Designated pursuant to section 1(a)(ii)(C)(1) of E.O. 13818 of December 20, 2017, “Blocking the Property of Persons Involved in Serious Human Rights Abuse or Corruption,” 82 FR 60839 (Dec. 26, 2017) for being a foreign person who is or has been a leader or official of an entity, including any government entity, that has engaged in, or whose members have engaged in, serious human rights abuse relating to the leader's or official's tenure.

10. NCUBE, Owen, Zimbabwe; DOB 17 Apr 1968; nationality Zimbabwe; Gender Male (individual) [GLOMAG].

Designated pursuant to section 1(a)(ii)(A) of E.O. 13818 of December 20, 2017, “Blocking the Property of Persons Involved in Serious Human Rights Abuse or Corruption,” 82 FR 60839 (Dec. 26, 2017) for being a foreign person who is responsible for or complicit in, or who has directly or indirectly engaged in, serious human rights abuse.

11. TAPFUMANEYI, Asher Walter, 568 Eagles Place, Harare, Zimbabwe; DOB 19 Nov 1959; POB Wedza, Zimbabwe; nationality Zimbabwe; Gender Male; Passport AD007230 (Zimbabwe); National ID No. 63453849Z80 (Zimbabwe) (individual) [GLOMAG].

Designated pursuant to section 1(a)(ii)(C)(1) of E.O. 13818 of December 20, 2017, “Blocking the Property of Persons Involved in Serious Human Rights Abuse or Corruption,” 82 FR 60839 (Dec. 26, 2017) for being a foreign person who is or has been a leader or official of an entity, including any government entity, that has engaged in, or whose members have engaged in, serious human rights abuse relating to the leader's or official's tenure.

Entities

1. FOSSIL AGRO (a.k.a. FOSSIL AGRO PRIVATE LIMITED), 42 McChlery Avenue, Eastlea, Harare, Zimbabwe; 521 Access Road, Msasa Industrial Area, Harare, Zimbabwe; Organization Established Date 2016; Organization Type: Support activities for crop production; Target Type Private Company [GLOMAG] (Linked To: SAKUNDA HOLDINGS).

Designated pursuant to section 1(a)(iii)(A)(2) of E.O. 13818 of December 20, 2017, “Blocking the Property of Persons Involved in Serious Human Rights Abuse or Corruption,” 82 FR 60839 (Dec. 26, 2017) for having materially assisted, sponsored or provided financial, material, or technological support for, or goods or services to or in support of SAKUNDA HOLDINGS, a person whose property and interests in property are blocked pursuant to the Order.

2. FOSSIL CONTRACTING (a.k.a. FOSSIL CONTRACTING PRIVATE LIMITED), 5 Loreley Crescent, Harare, Zimbabwe; 5, Loreley Close, Beverly, Msasa, Harare, Zimbabwe; website https://www.fossilcontracting.org/; Organization Established Date 01 Jan 2010; Organization Type: Construction of other civil engineering projects; Business Number 200114146 (Zimbabwe); Registration Number 5268/2011 (Zimbabwe) [GLOMAG].

Designated pursuant to section 1(a)(iii)(B) of E.O. 13818 of December 20, 2017, “Blocking the Property of Persons Involved in Serious Human Rights Abuse or Corruption,” 82 FR 60839 (Dec. 26, 2017) for being owned or controlled by, or having acted or purported to act for or on behalf of, directly or indirectly, Obey CHIMUKA, a person whose property and interests in property are blocked pursuant to the Order.

3. SAKUNDA HOLDINGS (a.k.a. SAKUNDA HOLDINGS PRIVATE LIMITED), Samora Machel Avenue No. 45 (between J. Nyerere Way and L. Takawira Street), 4th, 15th, 16th, and 17th Floors, Century Towers, Harare, Zimbabwe; Number 5 Beit Road, Milton Park, Harare, Zimbabwe; Organization Established Date 01 Jan 2005; alt. Organization Established Date 28 Nov 2005; Organization Type: Activities of holding companies; Business Registration Number 19561/2005 (Zimbabwe) [GLOMAG] (Linked To: TAGWIREI, Kudakwashe Regimond).

Designated pursuant to section 1(a)(iii)(A)(1) of E.O. 13818 of December 20, 2017, “Blocking the Property of Persons Involved in Serious Human Rights Abuse or Corruption,” 82 FR 60839 (Dec. 26, 2017) for having materially assisted, sponsored or provided financial, material, or technological support for, or goods or services to or in support of corruption, including the misappropriation of state assets, the expropriation of private assets for personal gain, corruption related to government contracts or the extraction of natural resources, or bribery, and the transfer or the facilitation of the transfer of the proceeds of corruption.

Designated pursuant to section 1(a)(iii)(B) of E.O. 13818 of December 20, 2017, “Blocking the Property of Persons Involved in Serious Human Rights Abuse or Corruption,” 82 FR 60839 (Dec. 26, 2017) for being owned or controlled by, or having acted or purported to act for or on behalf of, directly or indirectly, Obey CHIMUKA, a person whose property and interests in property are blocked pursuant to the Order.

Dated: March 4, 2024.
Bradley Smith,
Director, Office of Foreign Assets Control, U.S. Department of the Treasury.

[FR Doc. 2024-04893 Filed 3-6-24; 8:45 am]

BILLING CODE 4810-AL-P